DEPARTMENT OF COMMERCE

National Oceanic and Atmospheric Administration

[RTID 0648-XA555]

Marine Mammals and Endangered Species

AGENCY: National Marine Fisheries Service (NMFS), National Oceanic and Atmospheric Administration (NOAA), Commerce.

ACTION: Notice; issuance of permits and permit modifications.

SUMMARY: Notice is hereby given that permits and permit modifications have been issued to the following entities under the Marine Mammal Protection Act (MMPA) and the Endangered Species Act (ESA), as applicable.

ADDRESSES: The permits and related documents are available for review upon written request via email to NMFS.Pr1Comments@noaa.gov.

FOR FURTHER INFORMATION CONTACT: Jennifer Skidmore (Permit No. 23932), Amy Hapeman (Permit Nos. 18238-03, 21111-02, and 23639), Erin Markin (Permit Nos. 23683, 23850, and 23851), Jordan Rutland (Permit No. 23310), and Sara Young (Permit No. 23188); at (301) 427-8401.

SUPPLEMENTARY INFORMATION: Notices were published in the Federal Register on the dates listed below that requests for a permit or permit modification had been submitted by the below-named applicants. To locate the Federal Register notice that announced our receipt of the application and a complete description of the research, go to www.federalregister.gov and search on the permit number provided in Table 1 below.

Table 1—Issued Permits and Permit Modifications
Permit No. | RTID | Applicant | Previous Federal Register notice | Issuance date
18238-03 | 0648-XA264 | NMFS, Southwest Fisheries Science Center, 8901 La Jolla, Shores Drive, La Jolla, CA 92037 (Responsible Party: Robin LeRoux) | 85 FR 40971; July 8, 2020 | September 18, 2020.
21111-02 | 0648-XA237 | NMFS, Southwest Fisheries Science Center, 8901 La Jolla, Shores Drive, La Jolla, CA 92037 (Responsible Party: Robin LeRoux) | 85 FR 37433; June 22, 2020 | September 18, 2020.
23188 | 0648-XR092 | Institute of Marine Sciences, University of California at Santa Cruz, 130 McAllister Way, Santa Cruz, CA 95060 (Responsible Party: Daniel Costa, Ph.D.) | 85 FR 31747; May 27, 2020 | September 25, 2020.
23310 | 0648-XA074 | Patricia Fair, Ph.D., South Carolina Aquarium, 100 Aquarium Wharf, Charleston, SC 29401 | 85 FR 14468; March 12, 2020 | September 15, 2020.
23639 | 0648-XA264 | Coonamessett Farm Foundation, Inc., 277 Hatchville Road, East Falmouth, MA 02536, (Responsible Party: Ronald Smolowitz) | 85 FR 40971; July 8, 2020 | September 25, 2020.
23683 | 0648-XA237 | Guam Division of Aquatic and Wildlife Resources, 163 Dairy Road, Mangilao, Guam 96913, (Responsible Party: Jay Gutierrez) | 85 FR 37433; June 22, 2020 | September 25, 2020.
23850 | 0648-XA264 | Shigetomo Hirama, Florida Fish and Wildlife Conservation Commission, Fish and Wildlife Research Institute, 1105 S.W. Williston Road, Gainesville, FL 32601 | 85 FR 40971; July 8, 2020 | September 25, 2020.
23851 | 0648-XA237 | Michael Arendt, South Carolina Department of Natural Resources, Marine Resources, 217 Fort Johnson Road, Charleston, SC 29412 | 85 FR 37433; June 22, 2020 | September 25, 2020.
23932 | 0648-XA287 and 0648-XA321 | New York Genome Center, 101 Avenue of the Americas, New York City, NY 10013 (Responsible Party: Catherine Reeves) | 85 FR 43818; July 20, 2020 and 85 FR 47187; August 4, 2020 (Correction) | September 2, 2020.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: October 5, 2020.
Julia Marie Harrison,
Chief, Permits and Conservation Division, Office of Protected Resources, National Marine Fisheries Service.

[FR Doc. 2020-22333 Filed 10-7-20; 8:45 am]

BILLING CODE 3510-22-P